DEPARTMENT OF COMMERCE

National Oceanic and Atmospheric Administration

[I.D. 020705B]

Pacific Fishery Management Council; Public Meeting

AGENCY: National Marine Fisheries Service (NMFS), National Oceanic and Atmospheric Administration (NOAA), Commerce.

ACTION: Notice of public meeting.

SUMMARY: The Pacific Fishery Management Council's (Council) Habitat Committee (HC) will hold a working meeting which is open to the public.

DATES: The HC meeting will be held Thursday, March 3, 2005, from 10 a.m. until approximately 5 p.m.

ADDRESSES: The HC meeting will be held at the Hotel Vintage Plaza, Burgundy Room, 422 SW Broadway, Portland, OR 97205. Telephone: 800-263-2305.

Council address: Pacific Fishery Management Council, 7700 NE Ambassador Place, Suite 200, Portland, Oregon 97220-1384.

FOR FURTHER INFORMATION CONTACT: Ms. Jennifer Gilden, Associate Staff Officer; telephone: 503-820-2280.

SUPPLEMENTARY INFORMATION: The purpose of the HC meeting is to review habitat-related issues on the agenda of the March 2005 Council meeting in Sacramento, California. Several of these agenda items relate to marine reserves. The HC will also discuss fish habitat issues associated with the Klamath River, and essential fish habitat issues associated with oyster culture.

No management actions will be decided by the HC. Although nonemergency issues not contained in the meeting agendas may come before the HC for discussion, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at 503-820-2280 at least five days prior to the meeting date.

Dated: February 7, 2005.
Alan D. Risenhoover,
Acting Director, Office of Sustainable Fisheries, National Marine Fisheries Service.

[FR Doc. E5-573 Filed 2-10-05; 8:45 am]

BILLING CODE 3510-10-S